DEPARTMENT OF DEFENSE

Office of the Secretary

[Transmittal No. 25-77]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-77 and Policy Justification.

Dated: February 4, 2026.
Stephanie J. Bost,
Alternate OSD Federal Register Liaison Officer, Department of Defense.

BILLING CODE 6001-FR-P

BILLING CODE 6001-FR-C

Transmittal No. 25-77

Notice of Proposed Issuance of Letter of Offer Pursuant to Section 36(b)(1) of the Arms Export Control Act, as amended

(i) Prospective Purchaser: Kingdom of Saudi Arabia

(ii) Total Estimated Value:

Major Defense Equipment * | $ 0
Other | $500 million
TOTAL | $500 million

Funding Source: National Funds

(iii) Description and Quantity or Quantities of Articles or Services under Consideration for Purchase:

Major Defense Equipment (MDE):

None

Non-Major Defense Equipment:

The following non-MDE items will be included: A Cooperative Logistics Supply Support Arrangement (CLSSA) Foreign Military Sales Order (FMSO) II case to requisition orders for centrally managed spares and repair parts. This case supports the Royal Saudi Land Forces Aviation Corps' UH-60A/L/M Black Hawk utility helicopters; AH-64A/D/E Apache attack helicopters; CH-47F Chinook cargo helicopters; Schweizer 333 helicopters; and Aerial Scout helicopters; and other related elements of logistics and program support.

(iv) Military Department: Army (SR-B-KYQ)

(v) Prior Related Cases, if any: SR-B-KUW, SR-B-KVG, SR-B-KYO, SR-B-KRH, SR-B-KRL, SR-B-KRU, SR-B-KRX, SR-B-KRY

(vi) Sales Commission, Fee, etc., Paid, Offered, or Agreed to be Paid: None known at this time

(vii) Sensitivity of Technology Contained in the Defense Article or Defense Services Proposed to be Sold: See Attached Annex

(viii) Date Report Delivered to Congress: December 1, 2025

* as defined in Section 47(6) of the Arms Export Control Act.

POLICY JUSTIFICATION

Kingdom of Saudi Arabia—Cooperative Logistics Supply Support Arrangement Program, Foreign Military Sales Order II Case

The Kingdom of Saudi Arabia has requested to buy a Cooperative Logistics Supply Support Arrangement (CLSSA) Foreign Military Sales Order (FMSO) II case to requisition orders for centrally managed spares and repair parts. This case supports the Royal Saudi Land Forces Aviation Corps' UH-60A/L/M Black Hawk utility helicopters; AH-64A/D/E Apache attack helicopters; CH-47F Chinook cargo helicopters; Schweizer 333 helicopters; and Aerial Scout helicopters; and other related elements of logistics and program support. The estimated total cost is $500 million.

This proposed sale will support the foreign policy and national security objectives of the United States (U.S.) by improving the security of a partner country that contributes to political stability and economic progress in the Gulf region.

The proposed sale will enhance Saudi Arabia's ability to effectively maintain and operate their U.S.-procured helicopter fleet. This will allow better integration with U.S.-led coalitions and operate independently in support of U.S. interests and the security of U.S. forces in theater and is consistent with U.S. bilateral and multilateral defense plans in the Central Command region. Saudi Arabia will have no difficulty absorbing this equipment into its armed forces.

The proposed sale of this equipment and support will not alter the military balance in the region.

There are no principal contractors involved with this potential sale. At this time, the U.S. government is not aware of any offset agreement proposed in connection with this potential sale. Any offset agreement will be defined in negotiations between the purchaser and the contractor.

Implementation of this proposed sale will not require the assignment of any additional U.S. government or contractor representatives to the Kingdom of Saudi Arabia.

There will be no adverse impact on defense readiness as a result of this proposed sale.

[FR Doc. 2026-02402 Filed 2-5-26; 8:45 am]

BILLING CODE 6001-FR-P